DEPARTMENT OF DEFENSE

Office of the Secretary

[Docket ID: DOD-2026-OS-0168]

Submission for OMB Review; Comment Request

AGENCY: Office of the Under Secretary of Defense for Personnel and Readiness (OUSD(P&R)), Department of Defense (DoD).

ACTION: 30-Day information collection notice.

SUMMARY: The Department of War has submitted to the Office of Management and Budget (OMB) for clearance the following proposal for collection of information under the provisions of the Paperwork Reduction Act.

DATES: Consideration will be given to all comments received by March 27, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION: Title; Associated Form; And OMB Number: Record of Emergency Data, DD Form 93; OMB Control Number 0704-0649.

Type of Request: Extension.

Number of Respondents: 1,739,012.

Responses per Respondent: 1.

Annual Responses: 1,739,012.

Average Burden per Response: 5 minutes.

Annual Burden Hours: 144,918 hours.

Needs and Uses: The DD Form 93 is used by Service members to designate beneficiaries for certain benefits in the event of the Service member's death. It is also a guide for disposition of the member's pay and allowances if captured, missing or interned. It also shows the names and addresses of the person(s) the Service member desires to be notified in case of emergency or death, and designates the person authorized to direct disposition of the Service member's remains upon death. For civilian personnel, it is used to expedite the notification process in the event of an emergency and/or the death of the member. This requirement is identified in DoDI 1300.18, “Department of Defense Personnel Casualty Matters, Policies, and Procedures.” The goal is to retain decisions by service members and deploying contractors relating to persons to be notified in the event of illness, injury, missing status, or death and to capture decisions as it relates to the provision of benefits and designation of a person authorized to direct disposition of their remains upon death. Support staff are able to direct benefits and decisional briefings to those designated as beneficiaries and decision makers as designated by the Service member or deploying contractor.

Affected Public: Individuals and households.

Frequency: As required.

Respondent's Obligation: Voluntary.

DOD Clearance Officer: Mr. Reginald Lucas.

Dated: February 23, 2026.
Stephanie J. Bost,
Alternate OSD Federal Register Liaison Officer, Department of Defense.

[FR Doc. 2026-03730 Filed 2-24-26; 8:45 am]

BILLING CODE 6001-FR-P